DEPARTMENT OF JUSTICE

Antitrust Division

Corrected Notice Pursuant to the National Cooperative Research and Production Act of 1993—Pistoia Alliance, Inc.

Notice is hereby given that, on February 28, 2022, pursuant to Section 6(a) of the National Cooperative Research and Production Act of 1993, 15 U.S.C. 4301 et seq. (“the Act”), Pistoia Alliance, Inc. filed written notifications simultaneously with the Attorney General and the Federal Trade Commission disclosing changes in its membership. This notice corrects the notice published on May 13, 2022, which erroneously stated that Pistoia Alliance, Inc. filed its written notices under the Act on March 31, 2022. The notifications were filed for the purpose of extending the Act's provisions limiting the recovery of antitrust plaintiffs to actual damages under specified circumstances. Specifically, Vertex Inc., Boston, MA; Nagarro, Cluj-Napoca, ROMANIA; Exscientia, Oxford, UNITED KINGDOM; Atom Computing, Berkeley, CA; The Lens, Karabar, AUSTRALIA; IonQ Inc., College Park, MD; Prism Analytic, Cambridge, MA; and Accurids GmbH, Aachen, GERMANY have been added as parties to this venture.

Also, World Quant Predictive, New York, NY; Scinapsis, Toronto, CANADA; Synthace, London, UNITED KINGDOM; Qiagen, Redwood City, CA; Illumina, San Diego, CA; Mcule, Budapest, HUNGARY; Sapio, Baltimore, MD; PercayAI, St Louis, MO; Titian, London, UNITED KINGDOM; Tellic, New York, NY; and GenAlz, Montreal, CANADA have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on December 8, 2021. A notice was published in the Federal Register pursuant to Section 6(b) of the Act on March 11, 2022 (87 FR 14043).

Suzanne Morris,
Chief, Premerger and Division Statistics, Antitrust Division.

[FR Doc. 2022-15413 Filed 7-19-22; 8:45 am]

BILLING CODE 4410-11-P